FEDERAL COMMUNICATIONS COMMISSION

[DA 17-918]

Change in Filing Location for Commercial Overnight Documents FCC Warehouse Address Change

AGENCY: Federal Communications Commission.

ACTION: Notice.

SUMMARY: As part of our cost savings initiative, the FCC will close our current Warehouse/Mailroom at 9300 East Hampton Drive, Capitol Heights, MD 20743 at the end of September.

DATES: September 25, 2017.

ADDRESSES: Federal Communications Commission, 445 12th Street SW., Washington, DC 20554.

FOR FURTHER INFORMATION CONTACT: John Zentner at john.zentner@fcc.gov (202) 418-0119 or Geraldine Taylor at geraldine.taylor@fcc.gov (202) 418-0305.

SUPPLEMENTARY INFORMATION: This is a summary of the Commission's document, DA 17-918, released September 21, 2017. The complete text of this document can be downloaded at https://apps.fcc.gov/edocs_public/attachmatch/DA-17-918A1.pdf.

Effective September 25, 2017, all documents, packages and equipment sent to FCC Headquarters via UPS, FedEx, Freight, or any overnight mail (other than United States Postal Service Express Mail), must be sent to our new Warehouse address: FCC, 9050 Junction Drive, Annapolis Junction, MD 20701.

Please note that this change has no effect on mail sent through the United States Postal Service (USPS). All USPS First Class Mail, Express Mail and Priority Mail should continue to be sent to FCC Headquarters at 445 12th Street SW., Washington, DC 20554 and will continue being processed through USPS.

Federal Communications Commission.
Marlene H. Dortch,
Secretary.

[FR Doc. 2017-20708 Filed 9-26-17; 8:45 am]

BILLING CODE 6712-01-P